DEPARTMENT OF STATE

[Public Notice: 7409]

Notice of Public Meeting on FY 2012 Refugee Admissions Program

There will be a meeting on the President's FY 2012 U.S. Refugee Admissions Program on Thursday, May 12, 2011 from 2 p.m. to 4 p.m. The meeting will be held at the Refugee Processing Center, 1401 Wilson Boulevard, Suite 700, Arlington, Virginia. The meeting's purpose is to hear the views of attendees on the appropriate size and scope of the FY 2012 U.S. Refugee Admissions Program.

Persons wishing to attend this meeting must notify the Bureau of Population, Refugees, and Migration at telephone (202) 453-9257 by 5 p.m. on Thursday, May 5, 2011, to reserve a seat. Persons wishing to present written comments should submit them by 5 on Thursday, May 5, 2011 via e-mail to spruellda@state.gov or fax (202) 453-9393.

If you have questions about the public meeting, please contact Delicia Spruell, PRM/Admissions Program Officer at (202) 453-9257. Information about the U.S. Refugee Admissions Program may be found at http://www.state.gov/g/prm/.

Dated: March 30, 2011.
David Robinson,
Principal Deputy Assistant Secretary, Bureau of Population, Refugees, and Migration, Department of State.

[FR Doc. 2011-8174 Filed 4-5-11; 8:45 am]

BILLING CODE 4710-33-P